NEIGHBORHOOD REINVESTMENT CORPORATION

Sunshine Act Meeting Notice

Corporate Administration Committee Meeting of The Board of Directors

TIME AND DATE: 1 p.m., Thursday, September 13, 2012.

PLACE: 1325 G Street NW., Suite 800, Boardroom, Washington, DC 20005.

STATUS: Open.

CONTACT PERSON FOR MORE INFORMATION: Erica Hall, Assistant Corporate Secretary; (202) 220-2376; ehall@nw.org.

AGENDA:

I. Call to Order

II. Nominations

III. Employee Performance Management System

IV. Policy Changes

V. Human Resources Update

VI. Washington, DC Lease Update

VII. Adjournment

Erica Hall,
Assistant Corporate Secretary.

[FR Doc. 2012-21737 Filed 8-29-12; 4:15 pm]

BILLING CODE 7570-02-P